DEPARTMENT OF THE TREASURY

Privacy Act of 1974, as Amended; System of Records Notice

AGENCY: Department of the Treasury.

ACTION: Notice of proposed Privacy Act system of records.

SUMMARY: In accordance with the Privacy Act of 1974, as amended, 5 U.S.C. 552a, the Department of the Treasury proposes to establish a new Privacy Act system of records titled “Treasury .016—Reasonable Accommodations Records.” This system will allow Treasury and its bureaus to collect and maintain records on applicants for employment, as well as employees, who request or receive reasonable accommodations from Treasury under the Rehabilitation Act of 1973 and the Americans with Disabilities Act Amendments Act of 2008. Reasonable accommodations are modifications or adjustments that will allow applicants and employees to apply for a job, perform job duties, and/or enjoy the benefits and privileges of employment. Reasonable accommodations are also made for individuals who seek to participate or participate in Treasury programs and activities or attend meetings and events at Treasury facilities. This system will be included in the Treasury's inventory of record systems.

DATES: Submit comments on or before May 28, 2014. This new system will be effective May 28, 2014.

ADDRESSES: You may submit comments, identified by one of the following methods:

• Fax: 202-622-3895.

• Mail: Helen Goff Foster, Deputy Assistant Secretary for Privacy, Transparency, and Records, Office of Privacy, Transparency, and Records, Department of the Treasury, 1500 Pennsylvania Avenue NW., Washington, DC 20220.

Instructions: All submissions received must include the agency name for this rulemaking. All comments received will be posted without change to http://www.regulations.gov, including any personal information provided. For access to read background documents or comments received go to http://www.regulations.gov, including any personal information provided.

FOR FURTHER INFORMATION CONTACT: For general questions and for privacy issues please contact: Helen Goff Foster (202-622-0790), Deputy Assistant Secretary for Privacy, Transparency, and Records, Office of Privacy, Transparency, and Records, Department of the Treasury, 1500 Pennsylvania Ave. NW., Washington, DC 20220.

SUPPLEMENTARY INFORMATION:

I. Background

In accordance with the Privacy Act of 1974, as amended, 5 U.S.C. 552a, the Department of the Treasury (Treasury) proposes to establish a new system of records, “Treasury .016—Reasonable Accommodations Records.”

The purpose of this system of records is to allow Treasury and its bureaus to collect and maintain records on applicants for employment as well as current employees (including contractors and interns) and members of the public who request or receive reasonable accommodations from the Treasury and its Bureaus under the Rehabilitation Act of 1973 and the Americans with Disabilities Act Amendments Act of 2008 (ADAAA). Reasonable accommodations are modifications or adjustments that will allow applicants and employees to apply for a job, perform job duties, and/or enjoy the benefits and privileges of employment. Reasonable accommodations are also made for individuals who seek to participate and/or participate in Treasury programs and activities or attend meetings and events at Treasury facilities. The system will also be used to track processing of requests for reasonable accommodations only to the extent necessary to ensure Treasury-wide compliance with applicable laws and regulations while preserving and maintaining the confidentiality and privacy of all information (e.g., medical information) provided in support of accommodation request.

The Rehabilitation Act and the ADAAA require federal agencies to provide reasonable accommodations to qualified applicants for employment and employees with disabilities if known or requested, unless the accommodation would impose an undue hardship on the agency. The Rehabilitation Act requires federal agencies to provide reasonable accommodations or modifications to allow participation by persons with disabilities in agency programs and activities. Reasonable accommodations are modifications or adjustments that will allow applicants and employees to apply for a job, perform job duties, and/or enjoy the benefits and privileges of employment. Reasonable accommodations may include, but are not limited to: (1) Making existing facilities readily accessible to and usable by individuals with disabilities; (2) job restructuring, modification of work schedules or place of work, extended leave, telecommuting, or reassignment to a vacant position; (3) acquisition or modification of equipment or devices, including computer software and hardware, appropriate adjustments or modifications of examinations, training materials or policies, the provision of qualified readers and/or interpreters, personal assistants that enable the individual to perform his or her job duties and enjoy the benefits and privileges of employment, and other similar accommodations; and/or (4) the manner in which a program or activity is offered to the public.

The Rehabilitation Act and the ADAAA authorize Treasury to implement this reasonable accommodation program. Routine uses contained in this notice include sharing information: To disclose information to medical personnel to meet a bona fide medical emergency; to disclose information to another federal agency, to a court, or a party in litigation before a court or in an administrative proceeding being conducted by a federal agency when the government is a party to the judicial or administrative proceeding; to disclose information to a congressional office from the record of an individual in response to an inquiry from the congressional office made at the request of the individual; and to disclose to an authorized appeal grievance examiner, formal complaints examiner, administrative judge, equal employment opportunity investigator, arbitrator, or other duly authorized official engaged in investigation or settlement of a grievance, complaint, or appeal filed by an employee. The first and fourth recognized routine uses are consistent with the exceptions to confidentiality under section 501 of the Rehabilitation Act. The second routine use involves disclosure of relevant information as part of a proceeding in which the government is a party, and the third disclosure would occur only when the individual whose information is being disclosed has requested a member of Congress to make an inquiry on the individual's behalf.

This system will be included in the Department of the Treasury's inventory of record systems.

II. Privacy Act of 1974, as Amended

The Privacy Act embodies fair information principles in a statutory framework governing the means by which the United States Government collects, maintains, uses, and disseminates individuals' records that are maintained in a system of records. The Privacy Act applies to information that is maintained in a “system of records.” A system of records is a group of any records under the control of an agency for which information is retrieved by the name of an individual or by some identifying number, symbol, or other identifying particular assigned to the individual. Individuals may request access to their own records that are maintained in a system of records in the possession or under the control of Treasury by complying with Treasury's Privacy Act regulations found at 31 CFR 1.26.

The Privacy Act requires each agency to publish in the Federal Register a description of the type and character of each system of records that the agency maintains, and the routine uses that are contained in each system to make agency recordkeeping practices transparent, to notify individuals regarding the uses to which their records are put, and to assist individuals to more easily find such files within the agency.

In accordance with the Privacy Act, the Department of the Treasury proposes to establish a new system of records titled, “Treasury .016—Reasonable Accommodations Records.” The new proposed system of records is published in its entirety below.

In accordance with 5 U.S.C. 552a(r), Treasury has provided a report of this system of records to OMB and to Congress.

Dated: April 10, 2014.
Helen Goff Foster,
Deputy Assistant Secretary for Privacy, Transparency, and Records.

TREASURY .016

System name:

Treasury .016—Reasonable Accommodations Records.

System location:

Department of the Treasury, 1500 Pennsylvania Ave. NW., Washington, DC 20220. These records are located in personnel, EEO, or designated offices in the bureaus in which the reasonable accommodations were filed. The locations at which the system is maintained are:

(1) Departmental Offices: 1500 Pennsylvania Ave. NW., Washington, DC 20220;

(2) Alcohol and Tobacco Tax and Trade Bureau: 1310 G St. NW., Washington, DC 20220.

(3) Office of the Comptroller of the Currency: Constitution Center, 400 Seventh St. SW., Washington, DC 20024;

(4) Fiscal Service: Liberty Center Building, 401 14th St. SW., Washington, DC 20227;

(5) Internal Revenue Service: 1111 Constitution Ave. NW., Washington, DC 20224;

(6) United States Mint: 801 Ninth St. NW., Washington, DC 20220;

(7) Bureau of Engraving and Printing: Eastern Currency Facility, 14th and C Streets SW., Washington, DC 20228 and Western Currency Facility, 9000 Blue Mound Rd., Fort Worth, TX 76131;

(8) Financial Crimes Enforcement Network: P.O. Box 39, Vienna, VA 22183-0039;

(9) Special Inspector General for the Troubled Asset Relief Program: 1801 L St. NW., Washington, DC 20220;

(10) Office of Inspector General: 740 15th St. NW., Washington, DC 20220; and

(11) Office of the Treasury Inspector General for Tax Administration: 1125 15th St. NW., Suite 700A, Washington, DC 20005.

Categories of individuals covered by the system:

Categories of individuals covered by this system include applicants for employment and employees who request or receive reasonable accommodations under the Rehabilitation Act of 1973 or ADAAA. This also includes participants in Treasury programs and activities, visitors at Treasury facilities, authorized individuals or representatives (e.g., family member or attorney) who request a reasonable accommodation on behalf of an applicant for employment or employee, as well as former employees and members of the public who request or receive a reasonable accommodation during their employment with Treasury or when visiting a Treasury facility.

Categories of records in the system:

• Requestor's status (applicant or anybody who identifies or recognizes the need for an accommodation at a Treasury facility);

• Name of the person who requires the accommodation;

• Address, phone, and email of the person who requires accommodations;

• Date of request;

• Meeting or other event for which request was made (room number, date and time of meeting/event);

• Program or activity for which request was made;

• Jobs (occupational series, grade level, and bureau or office) for which reasonable accommodation was requested;

• Information concerning the nature of the disability and the need for accommodation, including appropriate medical documentation when the disability and/or need for accommodation is not obvious or the accommodation cannot be easily provided with little effort or expense; and

• Medical documentation supporting the reasonable accommodation request should be kept in a confidential file separate and apart from the requestor's Official Personnel Folder, Employee Performance File, or drop file.

Information concerning the nature of the disability and need for accommodation includes:

• Medical documentation provided by the requester;

• Type(s) of accommodation(s) requested;

• Expense(s) associated with the requested accommodation;

• Whether the request came from someone planning to visit a Treasury facility;

• Whether an accommodation requested was pre-employment, during employment, or post-employment with the Treasury or bureau;

• How the requested accommodation would assist in job performance, participation in a Treasury program or activity, or attendance at a Treasury-sponsored meeting or event;

• The amount of time taken to process the request;

• Whether the request was granted or denied and reason; and

• The sources of technical assistance consulted in trying to identify a possible reasonable accommodation.

Authority for maintenance of the system:

The Rehabilitation Act of 1973, §§ 501 and 504; ADAAA; Executive Order 13164 (July 28, 2000); and Executive Order 13548 (July 26, 2010).

Purpose(s):

The purpose of this system is to allow Treasury and its bureaus to collect and maintain records on individuals who seek accommodations to facilitate their participation in a Treasury program or activity, their attendance at a meeting, training, conference or event at a Treasury facility or sponsored by Treasury, applicants for employment who have disabilities, and employees with disabilities who request or receive reasonable accommodation by the Department as the Rehabilitation Act of 1973 and the ADAAA require. Another purpose of this system is to track and report the processing of requests for reasonable accommodation Treasury-wide to comply with applicable laws and regulations and to preserve and maintain the confidentiality of information provided in support of the accommodation request.

Routine uses of records maintained in the system, including categories of users and the purposes of such uses:

These records and information in these records may be disclosed from the system as follows:

A. To medical personnel to meet a bona fide medical emergency;

B. To another federal agency, a court, or a party in litigation before a court or in an administrative proceeding being conducted by a federal agency when the Government is a party to the judicial or administrative proceeding;

C. To a congressional office from the record of an individual in response to an inquiry from the congressional office made at the request of the individual; and

D. To an authorized appeal grievance examiner, formal complaints examiner, administrative judge, equal employment opportunity investigator, arbitrator or other duly authorized official engaged in investigation or settlement of a grievance, complaint or appeal filed by an employee;

E. To the National Archives and Records Administration (NARA) or other federal government agencies pursuant to general records management and records management inspections conducted under the authority of 44 U.S.C. 2904 and 2906;

F. To an actual or potential party to litigation or the party's authorized representative for the purpose of negotiation or discussion on such matters as settlement, plea bargaining, or in information discovery proceedings;

G. To contractors, grantees, experts, consultants, students, interns, and others performing or working on a contract, service, grant, cooperative agreement, or other assignment for the federal government, when necessary to accomplish an agency function related to this system of records; and

H. To a Member of Congress or staff acting upon the Member's behalf when the Member or staff requests the information on behalf of an individual who is the subject of the record.

Disclosure to consumer reporting agencies:

None.

Policies and practices for storing, retrieving, accessing, retaining, and disposing of records in the system:

Storage:

Records in this system are on paper and/or in digital or other electronic form. Digital and other electronic images are stored on a storage area network in a secured environment. Records, whether paper or electronic, may be stored in a separate, secure location at the Treasury Headquarters or at the bureau or office level.

Retrievability:

Records may be retrieved by name of the requester, employing bureau or office, or any unique identifying number assigned to the request if applicable.

Safeguards:

Records in this system are safeguarded in accordance with applicable rules and policies, including all applicable Treasury automated systems security and access policies. Strict controls have been imposed to minimize the risk of compromising the information. Access to the computer system containing the records in this system is limited to those individuals who have a need to know the information for the performance of their official duties and who have appropriate clearances or permissions.

All medical information, including information about functional limitations and reasonable accommodation needs obtained in connection with a request for reasonable accommodation must be kept confidential and shall be maintained in secure files separate from the Official Personnel Folder, Employee Performance File, or drop file. Additionally, employees who obtain or receive such information are strictly bound by these confidentiality requirements. Whenever medical information is disclosed, the individual disclosing the information must inform the information recipients regarding the confidentiality requirements that the recipient must continue to apply to the information after it is received.

Retention and disposal:

In accordance with NARA General Records Schedule (GRS) 1 Section 24 “Reasonable Accommodation Request Records” this schedule includes all requests for reasonable accommodation and/or assistive technology devices and services offered through the agency or the Computer/Electronic Accommodation Program that are made by or on behalf of applicants, current or former employees. Also included are medical records, supporting notes and documentation, as well as procedures and records related to processing, deciding, implementing, and tracking requests for reasonable accommodation(s). Disposition of records follows:

A. General Files—Destroy three years after supersession or when no longer needed for reference, whichever is later. (N1-GRS-04-2 item 1a);

B. Employee Case Files—Destroy three years after employee separation from the agency or all appeals are concluded, whichever is later. (N1-GRS-04-2 item 1b);

C. Supplemental Files—Destroy three years after end of fiscal year in which accommodation is decided or all appeals are concluded, whichever is later. (N1-GRS-04-2 item 1c). Note: These records are neither part of an employee's OPF nor part of a supervisor's unofficial personnel file;

D. Tracking System—Delete/destroy three years after compliance report is filed or when no longer needed for reference. (N1-GRS-04-2 item 1d).

System manager(s) and address:

EEO Program Manager (202-622-0341), Office of Civil Rights and Diversity, Department of the Treasury, 1500 Pennsylvania Ave. NW., Washington, DC 20220.

Records pertaining to reasonable accommodations filed at the Departmental level: EEO Program Manager (202-622-0341), Office of Civil Rights and Diversity, Department of the Treasury, 1550 Pennsylvania Ave. NW., Washington, DC 20220. The locations at which the system is maintained by Treasury's bureaus are:

(1) Departmental Offices: 1500 Pennsylvania Ave. NW., Washington, DC 20220;

(2) Alcohol and Tobacco Tax and Trade Bureau: 1310 G St. NW., Washington, DC 20220;

(3) Office of the Comptroller of the Currency: Constitution Center, 407 Seventh St. SW., Washington, DC 20024;

(4) Financial Management Service: 401 14th St. SW., Washington, DC 20227;

(5) Internal Revenue Service: 1111 Constitution Ave. NW., Washington, DC 20224;

(6) United States Mint: 801 Ninth St. NW., Washington, DC 20220;

(7) Bureau of Engraving and Printing: Eastern Currency Facility, 14th and C Streets SW., Washington, DC 20228 and Western Currency Facility, 9000 Blue Mound Rd., Fort Worth, TX 76131;

(8) Financial Crimes Enforcement Network: P.O. Box 39, Vienna, VA 22183-0039;

(9) Special Inspector General for the Troubled Asset Relief Program: 1801 L St. NW., Washington, DC 20220;

(10) The Office of Inspector General: 740 15th St. NW., Washington, DC 20220; and

(11) Treasury Inspector General for Tax Administration: 1125 15th St. NW., Suite 700A, Washington, DC 20005.

Notification procedure:

Individuals seeking notification of and access to any record contained in this system of records, or seeking to contest its content, may submit a request in writing in accordance with Treasury's Privacy Act regulations (located at 31 CFR 1.26) to the Freedom of Information Act (FOIA) and Transparency Liaison, whose contact information can be found at http://www.treasury.gov/FOIA/Pages/index.aspx under “FOIA Requester Service Centers and FOIA Liaison.” If an individual believes more than one bureau maintains Privacy Act records concerning him or her, the individual may submit the request to the Office of Privacy, Transparency, and Records, FOIA and Transparency, Department of the Treasury, 1500 Pennsylvania Ave. NW., Washington, DC 20220.

The request must be signed, and must either be notarized or submitted under 28 U.S.C. 1746, a law that permits statements to be made under penalty of perjury as a substitute for notarization. While no specific form is required, you may submit your request online at https://rdgw.treasury.gov/foia/pages/gofoia.aspx or call for 1-202-622-0930 for questions. The requester must submit a written and signed request that:

• States that the request is made pursuant to the FOIA and/or Privacy Act disclosure regulations;

• Includes information that will enable the processing office to determine the fee category of the user;

• Is addressed to the bureau that maintains the record (in order for a request to be properly received by the Department, the request must be received in the appropriate bureau's disclosure office);

• Reasonably describe the records;

• Gives the address where the determination letter is to be sent;

• States whether or not the requester wishes to inspect the records or have a copy made without first inspecting them; and

• Include a firm agreement from the requester to pay fees for search, duplication or review, as appropriate. In the absence of a firm agreement to pay, the requester may submit a request for a waiver or reduction of fees, along with justification of how such a waiver request meets the criteria for a waiver or reduction of fees found in the FOIA statute at 5 U.S.C. 552(a)(4)(A)(iii).

This bulleted information will assist the FOIA and Transparency staff in conducting an effective search for your records.

Record access procedures:

See “Notification procedure” above.

Contesting record procedures:

See “Notification procedure” above.

Record source categories:

Information is obtained from applicants for employment with disabilities as well as employees with disabilities who requested or received reasonable accommodations from the Treasury or a bureau as required by the Rehabilitation Act of 1973 and the ADAAA.

Exemptions claimed for the system:

None.

[FR Doc. 2014-09506 Filed 4-25-14; 8:45 am]

BILLING CODE 4811-33-P